DEPARTMENT OF ENERGY

Federal Energy Regulatory Commission

[Docket No. EG00-102-000, et al.]

Panda Perkiomen Power, L.P., et al.; Electric Rate and Corporate Regulation Filings

March 1, 2000.

Take notice that the following filings have been made with the Commission:

1. Panda Perkiomen Power, L.P.

[Docket No. EG00-102-000]

Take notice that on February 25, 2000, Panda Perkiomen Power, L.P. (Panda), with its principal offices at 4100 Spring Valley Road, Suite 1001, Dallas, Texas 75244, tendered for filing with the Federal Energy Regulatory Commission, an application for determination of exempt wholesale generator status pursuant to Section 32 of the Public Utility Holding Company Act of 1935, as amended, and Part 365 of the Commission's Regulations.

Panda is a Delaware limited partnership, which will construct, own and operate a 1000 MW natural gas-fired generating facility within the region governed by the PMJ Interconnection, L.L.C. (PJM) and sell electricity at wholesale.

Comment date: March 22, 2000, in accordance with Standard Paragraph E at the end of this notice. The Commission will limit its consideration of comments to those that concern the adequacy or accuracy of the application.

2. Energy Unlimited, Inc.

[Docket No. ER98-1622-007]

Take notice that on February 25, 2000, Energy Unlimited, Inc. filed their quarterly report for information only.

3. Sierra Pacific Power Company

[Docket Nos. ER99-28-003; EL99-38-002; ER99-945-002]

Take notice that on February 25, 2000, Sierra Pacific Power Company filed a Notice of Depositions pursuant to Rules 403 and 404 of the Federal Energy Regulatory Commission's Rules of Practice and Procedure (18 CFR 385.403 and 385.404).

Comment date: March 17, 2000, in accordance with Standard Paragraph E at the end of this notice.

4. NRG Northeast Power Marketing LLC

[Docket No. ER00-1690-000]

Take notice that on February 25, 2000, NRG Northeast Power Marketing LLC (NEPM), a marketer of electric power, has filed a notice of cancellation of its Rate Schedule FERC No. 1, pursuant to section 205 of the Federal Power Act, 16 U.S.C. § 824d (1994), and Section 35.15 of the Commission's regulations, 18 CFR 35.15.

NEPM proposes for its cancellation to be effective on April 25, 2000.

Comment date: March 17, 2000, in accordance with Standard Paragraph E at the end of this notice.

5. Alliant Energy Corporate Services, Inc.

[Docket No.ER00-1691-000]

Take notice that on February 24, 2000, Alliant Energy Corporate Services, Inc. (Alliant Energy) on behalf of Interstate Power Company (IPC) tendered for filing for a Negotiated Capacity Transaction (Agreement) between IPC and WPL for the period June 1, 2000 through August 31, 2000. The Agreement was negotiated to provide service under the Alliant Energy System Coordination and Operating Agreement among IES Utilities Inc., Interstate Power Company, Wisconsin Power & Light and Alliant Energy.

Comment date: March 17, 2000, in accordance with Standard Paragraph E at the end of this notice.

6. Virginia Electric and Power Company

[Docket No. ER00-1692-000]

Take notice that on February 25, 2000, Virginia Electric and Power Company (Virginia Power) amended its filing in this proceeding by tendering an executed version of the Service Agreement between Virginia Electric and Power Company and Allegheny Energy Supply Company, LLC. Under the Service Agreement, Virginia Power will provide services to Allegheny Energy Supply Company, LLC under the terms of the Company's Revised Market-Based Rate Tariff designated as FERC Electric Tariff (Second Revised Volume No. 4), which was accepted by order of the Commission dated August 13, 1998 in Docket No. ER98-3771-000.

Virginia Power requests an effective date of November 17, 1999, the date service was first provided.

Copies of the filing were served upon Allegheny Energy Supply Company, LLC, the Virginia State Corporation Commission and the North Carolina Utilities Commission.

Comment date: March 17, 2000, in accordance with Standard Paragraph E at the end of this notice.

7. The Montana Power Company and PP&L Montana, LLC

[Docket No. ER00-1693-000]

Take notice that, on February 25, 2000, The Montana Power Company (Montana Power) and PP&L Montana, LLC (PPLM) (together, the Applicants) jointly tendered for filing: (1) rate schedules and supplements thereto for PPLM and Montana Power; (2) Notices of Cancellation of Montana Power rate schedules; and (3) requests for waivers as set forth in more detail therein, all in connection with the assignment of Montana Power's interest in the 1964 Pacific Northwest Coordination Agreement and the 1997 Pacific Northwest Coordination Agreement (together, the PNCAs) to PPLM. Montana Power and PPLM recently completed the sale of Montana Power's generation assets to PPLM, and the assignment of the PNCAs is an additional aspect of that transaction.

Applicants state that copies of this filing have been served upon all parties to the PNCAs.

Comment date: March 17, 2000, in accordance with Standard Paragraph E at the end of this notice.

8. Pacific Gas and Electric Company

[Docket No. ER00-1694-000]

Take notice that on February 25, 2000, Pacific Gas and Electric Company (PG&E) tendered for filing the following changes to the Interconnection Agreement Between Pacific Gas And Electric And The City Of Santa Clara (IA), Initially filed under FERC Docket No. ER84-6-000: (1) revisions to Appendix A; (2) deletion of the Agreement Between City Of Santa Clara, California and Pacific Gas And Electric Company To Implement The Performance-Based Rate Settlement For Diablo Canyon Nuclear Power Plant Approved and Adopted By The Public Utilities Commission Of the State Of California (Implementation Agreement); and (3) a revised Exhibit A-4 to Appendix A to the IA.

PG&E's filing regarding Appendix A to the IA proposes rate changes other than rate increases. PG&E's filing regarding Exhibit A-4 to Appendix A proposes revisions to Exhibit A-4 with respect to Firm Transmission Service between Points of Receipt and Points of Delivery.

Copies of this filing were served upon Santa Clara and the Public Utilities Commission of the State of California.

Comment date: March 17, 2000, in accordance with Standard Paragraph E at the end of this notice.

9. Union Electric Company, d/b/a AmerenUE

[Docket No. ER00-1695-000]

Take notice that on February 25, 2000, Union Electric Company, d/b/a AmerenUE tendered for filing a proposal for providing a sharing credit to its Wholesale Electric Service customers—the Cities of California, Centralia, Farmington, Fredericktown, Hannibal, Kahoka, Kirkwood, Linneus, Marceline, Owensville, Perry, Rolla, and St. James, Missouri; Citizens Electric Corporation; and City of Jackson, Missouri.

Said credit follows a credit to the Company's Missouri retail customers and is being applied to the Company's wholesale customers following Section 2 of said Wholesale Electric Service Agreements (and Item 3 for the City of Jackson).

Copies of the filing were served upon the public utility's jurisdictional customers and the Missouri Public Service Commission.

Comment date: March 17, 2000, in accordance with Standard Paragraph E at the end of this notice.

10. MidAmerican Energy Company

[Docket No. ER00-1696-000]

Take notice that on February 25, 2000, MidAmerican Energy Company (MidAmerican), 666 Grand Avenue, Des Moines, Iowa 50309, filed with the Commission a Firm Transmission Service Agreement with Dynegy Power Marketing, Inc. (Dynegy), dated February 2, 2000, entered into pursuant to MidAmerican's Open Access Transmission Tariff.

MidAmerican requests an effective date of February 2, 2000, for the Agreement with Dynegy, and accordingly seeks a waiver of the Commission's notice requirement.

MidAmerican has served a copy of the filing on Dynegy, the Iowa Utilities Board, the Illinois Commerce Commission and the South Dakota Public Utilities Commission.

Comment date: March 17, 2000, in accordance with Standard Paragraph E at the end of this notice.

11. Alliant Energy Corporate Services, Inc.

[Docket No. ER00-1697-000]

Take notice that on February 25, 2000, Alliant Energy Corporate Services, Inc. (Alliant Energy) on behalf of Wisconsin Power & Light (WPL) tendered for filing a Unit Participation Capacity Transaction (Agreement) between WPL and IPC for the period June 1, 2000 through August 31, 2000. The Agreement was negotiated to provide service under the Alliant Energy System Coordination and Operating Agreement among IES Utilities Inc., Interstate Power Company, Wisconsin Power & Light and Alliant Energy.

Comment date: March 17, 2000, in accordance with Standard Paragraph E at the end of this notice.

12. New England Power Company

[Docket No. ER00-1698-000]

Take notice that on February 25, 2000, New England Power Company (NEP) tendered for filing Amendment No. 3 to the Wholesale Sales Agreement (the Agreement) between NEP and USGen New England, Inc. (USGenNE), formerly USGen Acquisition Corporation, for service under NEP's Wholesale Market Tariff, FERC Electric Tariff, Original Volume No. 10 (Tariff No. 10), FERC Rate Schedule No. 489 (redesignated as Service Agreement No. 2 under Tariff No. 10). The proposed Amendment No. 3 provides for the assignment by USGenNE to Constellation Power Source, Inc. (CPS) of USGenNE's rights and obligations under the Agreement to purchase NEP's share of the wholesale nuclear entitlements from its nuclear units.

Copies of the filing were served upon USGenNE, CPS and the Department of Public Utilities of the Commonwealth of Massachusetts.

Comment date: March 17, 2000, in accordance with Standard Paragraph E at the end of this notice.

13. Jersey Central Power & Light Company, Metropolitan Edison Company, Pennsylvania Electric Company

[Docket No. ER00-1699-000]

Take notice that on February 25, 2000, Jersey Central Power & Light Company, Metropolitan Edison Company, and Pennsylvania Electric Company (doing business and collectively referred to as GPU Energy) submitted for filing amendments to the Wheeling and Supplemental Power Agreement Between Pennsylvania Electric Company and Allegheny Electric Cooperative, Inc. (AEC). The materials in the amendments consist of new Appendix B-4 (which replaces existing Appendix B-3), revised Exhibit A, and revised Exhibit C-1 of the agreement.

Copies of the filing were served upon AEC and regulators in the Commonwealth of Pennsylvania and the State of New Jersey.

Comment date: March 17, 2000, in accordance with Standard Paragraph E at the end of this notice.

14. Cleco Utility Group Inc.

[Docket No. ER00-1700-000]

Take notice that on February 25, 2000, Cleco Utility Group Inc. (Cleco), tendered for filing proposed changes in its Rate Schedule FERC No. 13, which would amend the existing Electric System Interconnection Agreement with Cajun Electric Power Cooperative, Inc.

The proposed rate changes effects an assignment, and consent to the assignment, of Cajun Electric Power Cooperative's rights, interests, and obligations under the Electric System Interconnection Agreement to Louisiana Generating LLC.

Copies of the filing were served upon the Ralph R. Mabey, as Chapter 11 Trustee for Cajun Electric Power Cooperative, Inc., Louisiana Generating LLC, and the Louisiana Public Service Commission.

Comment date: March 17, 2000, in accordance with Standard Paragraph E at the end of this notice.

15. Consumers Energy Company

[Docket No. ER00-1701-000]

Take notice that on February 25, 2000 Consumers Energy Company (Consumers) tendered for filing a Facilities Agreement Between Consumers and Alpena Power Generation, LLC, (Facilities Agreement), dated January 20, 2000. Under the Facilities Agreement, Consumers is to construct, operate and maintain various interconnection facilities.

Copies of the filing were served upon Alpena Power Generation and upon the Michigan Public Service Commission.

Comment date: March 17, 2000, in accordance with Standard Paragraph E at the end of this notice.

16. PECO Energy Company

[Docket No. ER00-1702-000]

Take notice that on February 25, 2000, PECO Energy Company (PECO) filed under Section 205 of the Federal Power Act, 16 U.S.C. S 792 et seq., an Agreement dated February 22, 2000 with Griffin Energy Marketing, L.L.C. (GEM) under PECO's FERC Electric Tariff Original Volume No. 1 (Tariff).

PECO requests an effective date of February 22, 2000, for the Agreement.

PECO states that copies of this filing have been supplied to Griffin Energy Marketing, L.L.C. and to the Pennsylvania Public Utility Commission.

Comment date: March 17, 2000, in accordance with Standard Paragraph E at the end of this notice.

17. PPL Energyplus, LLC,

[Docket No. ER00-1703-000]

Take notice that on February 25, 2000, PPL EnergyPlus, LLC filed a Notice of Change in Corporate Name to notify the Federal Energy Regulatory Commission that the corporate name of PP&L EnergyPlus Co., LLC has been changed to PPL EnergyPlus, LLC, effective February 14, 2000.

Comment date: March 17, 2000, in accordance with Standard Paragraph E at the end of this notice.

18. PPL Montana, LLC

[Docket No. ER00-1704-000]

Take notice that on February 25, 2000, PPL Montana, LLC filed a Notice of Change in Corporate Name to notify the Federal Energy Regulatory Commission that the corporate name of PP&L Montana, LLC has been changed to PPL Montana, LLC, effective February 14, 2000.

Comment date: March 17, 2000, in accordance with Standard Paragraph E at the end of this notice.

Standard Paragraphs:

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-5485 Filed 3-6-00; 8:45 am]

BILLING CODE 6717-01-P